SOCIAL SECURITY ADMINISTRATION

Public Workshop: Identity Theft Prevention

AGENCY: Social Security Administration (SSA) Office of the Inspector General (OIG).

ACTION: Initial Notice Requesting Public Comment and Announcing Public Workshop.

SUMMARY: The Social Security Administration (SSA), Office of the Inspector General (OIG), will hold a public workshop to identify relevant issues and examine potential solutions to prevent identity theft. This notice seeks public comments to inform the discussion that will take place at the workshop.

DATES: October 25, 2000, 9 a.m. to 4 p.m. Written comments and requests to participate as panelist in the workshop must be submitted on or before September 21, 2000.

ADDRESSES: The Identity Theft Workshop will be held in Washington, D.C., at the Department of Health and Human Services Cohen Building, 330 Independence Ave., S.W., Washington, D.C. 20201.

SUBMISSION OF DOCUMENTS: Comments should be captioned “Identity Theft Prevention Workshop.” Comments may be submitted in writing or on diskette in Microsoft Word (please specify version). Mail written comments to Judy Ringle, Social Security Administration, Office of the Inspector General, Office of the Counsel to the Inspector General, 300 Altmeyer Building, 6401 Security Boulevard, Baltimore, MD 21235. As an alternative to paper submissions, comments may be sent through electronic mail, in Microsoft Word format, to: judy.ringle@ssa.gov.

FOR FURTHER INFORMATION CONTACT: Judy Ringle, Attorney, Office of the Inspector General, Office of the Counsel to the Inspector General, Social Security Administration, 300 Altmeyer Building, 6401 Security Boulevard, Baltimore, MD 21235-6401, (410) 966-6906. For information on eligibility, claiming benefits, or coverage of earnings, call our national toll-free number, 1-800-772-1213 or TTY 1-800-325-0778.

SUPPLEMENTARY INFORMATION: Type of Meeting: This meeting is open to the public.

Purpose: The purpose of this meeting is to identify the means to prevent identity theft in governmental and private transactions. Identity theft is on the rise. The illegal use of Social Security numbers (SSNs) and other means of identification by individuals who seek to profit from the illegal use of another's identification has increased exponentially in recent years. In Fiscal Year 1999 alone, the SSA OIG Fraud Hotline received approximately 62,000 allegations involving SSN misuse. Specifically, 32,000 allegations had SSN misuse implications involving SSA programs and an additional 30,000 allegations represented SSN misuse with no direct program implications. These are very concerning statistics.

It is imperative that SSNs remain secure with the individual SSN holder. However, the proliferate use of the SSN as an identifier not only by private entities and corporations, but also by medical providers and government entities, reduces the security of SSNs and increases the likelihood of illegal SSN use for purposes of committing identity theft. The expansion and popularity of the Internet to effect commercial transactions has increased the opportunities to commit crimes involving identity theft. At the same time, the expansion and popularity of the Internet to post official information for the benefit of citizens and customers has increased opportunities to obtain SSNs for illegal purposes.

While accurate means of identification are a necessity for commercial and private entities, medical providers and governmental entities, as well as individuals, when such means of identification are subject to misuse and fraud, it is of little use to those who need it most.

How to decrease the opportunity for disclosure and misuse of SSNs will be the subject of this workshop. The competing interests of individuals, concerned with irresponsible SSN disclosure and criminal SSN misuse, must be balanced against the legitimate needs of medical providers, law enforcement and other governmental entities, and commercial establishments to maintain clearly identifiable records.

To inform the SSA OIG prior to the workshop, we are seeking views on this subject from industry representatives, consumer representatives, the academic community, and the larger public from the United States and other countries, including views on the elements of fair and effective methods of victim assistance and remediation. Views are welcome on any aspect of this subject.

Dated: August 10, 2000.
James G. Huse, Jr.,
Inspector General of Social Security.

[FR Doc. 00-21322 Filed 8-21-00; 8:45 am]

BILLING CODE 4191-02-P